DEPARTMENT OF HEALTH AND HUMAN SERVICES

Centers of Disease Control and Prevention

[Docket Number NIOSH 068]

NIOSH Pilot Study of Truck Driver Anthropometric and Workspace Dimensions; Meeting

AGENCY: National Institute for Occupational Safety and Health (NIOSH) of the Centers for Disease Control and Prevention (CDC), HHS.

ACTION: Notice of public meeting.

Name: Consortium Meeting on the NIOSH Pilot Study of Truck Driver Anthropometric and Workspace Dimensions.

Meeting Date and Time: April 27, 2006, 8:30 a.m.-4:30 p.m.

Place: Room L1CD, NIOSH, CDC, 1095 Willowdale Road, Morgantown, West Virginia.

SUMMARY: Purpose: The public meeting will explain and discuss issues related to the current NIOSH pilot project and a possible large-scale research project on U.S. truck driver anthropometric and workspace data. This possible large-scale study will establish an anthropometric and workspace database for U.S. truck drivers. The database will be used to formulate anthropometric guidelines, develop digital human models for cab designs, and upgrade current standards for new generation cabs that would accommodate all trucking populations. Updated anthropometric information for cab design will help to increase truck drivers' visibility, operational comfort, maneuverability, and post-crash survivability, thereby possibly reducing fatal and nonfatal injuries.

The current NIOSH pilot study will (1) identify critical cab design criteria and related human body dimensions, (2) establish test procedures for the large-scale project, and (3) develop research partnerships with interested parties.

The scope of this pilot and possible large-scale study will be limited to medium and heavy trucks and their operators in the continental U.S. Special emphasis will be placed on discussion of the following issues:

(1) What are the key anthropometric and workspace dimensions for the design of an ergonomically sound cab?

(2) What are the essential adjustment parameters and values of the truck buck that is to be constructed for data collection?

(3) What are the essential postures to be scanned in three-dimensional anthropometry that are to be used in computer simulation?

(4) What are the essential cab accommodation models to be developed once updated anthropometric and workspace data become available?

The public is invited to attend and will have the opportunity to provide comments. NIOSH will use this information to assess the scientific basis for the current pilot project and the possible large-scale project on U.S. truck driver anthropometric and workspace data.

Status: The consortium meeting will include scientists and representatives from various government agencies, industry and other stakeholders and is open to the public, limited only by the space available. The meeting room accommodates 40 people. Due to limited space, notification of intent to attend the meeting must be made to Jinhua Guan, PhD, not later than April 14, 2006. Dr. Guan can be reached by telephone at (304) 599-4676 or by e-mail at ezg6@cdc.gov. Requests to attend the meeting will be accommodated on a first-come basis.

Non-U.S. Citizens: Because of CDC Security Regulations, non-U.S. citizens wishing to attend this meeting must provide the following information in writing to Barbara Phillips (telephone: 304-285-6325; fax: (304) 285-6039; e-mail: djp2@cdc.gov) no later than April 14, 2006:

1. Visitor's Full Name:

2. Gender:

3. Date of Birth:

4. Place of Birth (city, province, state, country):

5. Citizenship:

6. Passport Number:

7. Date of Passport Issue:

8. Date of Passport Expiration:

9. Type of Visa:

10. Visitor's Organization:

11. Organization Address:

12. Organization Telephone Number:

13. Visitor's Position/Title within the Organization:

This information will be transmitted to the CDC Security Office for approval. Visitors will be notified as soon as approval has been obtained.

A copy of the research protocol titled ”NIOSH Pilot Study of Truck Driver Anthropometric and Workspace Dimensions” can be obtained from the CDC Internet at http://www.cdc.gov/niosh/docs or a hard copy may be requested from the Docket Officer, Karen Dragon (see contact information below).

ADDRESSES: Comments should be submitted to the NIOSH Docket Office, ATTN: Karen Dragon, Robert A. Taft Laboratories, 4676 Columbia Parkway, M/S C-34, Cincinnati, Ohio 45226, telephone 513/533-8303, fax 513/533-8285.

Comments may also be submitted directly through the Web site (http://www.cdc.gov/niosh/docs/) or by e-mail to: niocindocket@cdc.gov. E-mail attachments should be formatted in Microsoft Word. Comments should be submitted to NIOSH no later than June 30, 2006, and should reference docket number NIOSH-068 in the subject heading.

Oral comments made at the public meeting must also be submitted to the docket office in writing in order to be considered by the Agency.

All information received in response to this notice will be available for public examination and copying at the NIOSH Docket Office, Room 111, 4676 Columbia Parkway, Cincinnati, Ohio 45226.

Contact Person for Technical Information: Jinhua Guan, PhD, telephone (304) 285-6333, Division of Safety Research, NIOSH, 1095 Willowdale Road, Morgantown, WV 26505.

Dated: April 3, 2006.
James D. Seligman,
Chief Information Officer, Centers for Disease Control and Prevention.

[FR Doc. E6-5168 Filed 4-7-06; 8:45 am]

BILLING CODE 4163-19-P